FEDERAL COMMUNICATIONS COMMISSION

47 CFR Part 73

[MB Docket No. 21-219; RM-11907; DA 21-583; FR ID 28088]

Television Broadcasting Services, Quincy, Illinois

AGENCY: Federal Communications Commission.

ACTION: Proposed rule.

SUMMARY: The Commission has before it a petition for rulemaking filed by WGEM License, LLC (Petitioner), the licensee of WGEM-TV (NBC), channel 10, Quincy, Illinois. The Petitioner requests the substitution of channel 19 for channel 10 at Quincy in the DTV Table of Allotments.

DATES: Comments must be filed on or before June 28, 2021 and reply comments on or before July 12, 2021.

ADDRESSES: Federal Communications Commission, Office of the Secretary, 45 L Street NE, Washington, DC 20554. In addition to filing comments with the FCC, interested parties should serve counsel for the Petitioner as follows: Patrick Cross, Esq., Brooks, Pierce, McLendon, Humphrey & Leonard, LLP, 1700 Wells Fargo Capitol Center, Raleigh, North Carolina 27601.

FOR FURTHER INFORMATION CONTACT: Joyce Bernstein, Media Bureau, at (202) 418-1647 or Joyce.Bernstein@fcc.gov.

SUPPLEMENTARY INFORMATION: In support of its channel substitution request, the Petitioner states that the Commission has recognized that VHF channels have certain propagation characteristics that pose challenges for their use in providing digital television service, including propagation characteristics that allow undesired signals and noise to be receivable at relatively far distances and nearby electrical devices to cause interference. Petitioner states that it has attempted to address the station's reception issues through multiple technical avenues, including requesting a waiver of the permissible power limits set forth in the Commission's rules, but continues to receive numerous complaints of poor or no reception from viewers. In addition, while the proposed channel 19 facility will result in a slight reduction (approximately 9.4 kilometers) in WGEM-TV's noise limited contour, the Petitioner states that use of the Longley-Rice propagation model indicates that the proposed channel 19 facility will have an extended terrain-limited service throughout the gap area, and thus, there will be no loss of service.

This is a synopsis of the Commission's Notice of Proposed Rulemaking, MB Docket No. 21-219; RM-11907; DA 21-583, adopted May 17, 2021, and released May 17, 2021. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments under Illinois by revising the entry for Quincy to read as follows:

§ 73.622 Digital television table of allotments.

* * * * *

(i) * * *

Community | Channel No.
* * * * *
ILLINOIS
* * * * *
Quincy | 19, 32, *34
* * * * *

[FR Doc. 2021-10859 Filed 5-26-21; 8:45 am]

BILLING CODE 6712-01-P